DEPARTMENT OF LABOR

Employment and Training Administration

[TA-W-39,355]

KCS Mountain Resources, Inc. Worland, WY; Notice of Termination of Investigation

Pursuant to section 221 of the Trade Act of 1974, an investigation was initiated on May 29, 2001, in response to a worker petition which was filed by the company on behalf of workers at KCS Mountain Resources, Inc., Worland, Wyoming.

The petitioner has requested that the petition be withdrawn. Consequently, further investigation in this case would serve no purpose, and the investigation has been terminated.

Signed in Washington, DC, this 29th day of August, 2001.
Linda G. Poole,
Certifying Officer, Division of Trade Adjustment Assistance.

[FR Doc. 01-22684 Filed 9-10-01; 8:45 am]

BILLING CODE 4510-30-M